DEPARTMENT OF HEALTH AND HUMAN SERVICES

Centers for Medicare & Medicaid Services

[Document Identifier: CMS-10249]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Administrative Requirements for Section 6071 of the Deficit Reduction Act; Use: Under section 6071 of the Deficit Reduction Act of 2005 (P.L. 109-171) subsection (c), the Secretary may require States to meet requirements and provide additional information, provisions, and assurances. Through the Operational Protocol, States provide the requirements, information, provisions and assurances which, following CMS approval, States may enroll individuals in the State's demonstration program or begin to claim for service dollars. The Act also requires the Money Follows the Person Rebalancing Demonstration (MFP) program be evaluated to determine program effectiveness. One aspect of the evaluation is determining participant quality of life and how the program affects quality of life. Medicaid enrollees who participate in the MFP program are expected to have need for long-term care services for the rest of their lives and are a particularly vulnerable population if the community setting cannot adequately meet their needs or does not provide them a suitable quality of life.

State Operational Protocols should provide enough information that: the CMS Project Officer and other Federal officials may use it to understand the operation of the demonstration and/or prepare for potential site visits without needing additional information; the State Project Director can use it as the manual for program implementation; and external stakeholders may use it to understand the operation of the demonstration. The financial information collection will be used in CMS financial statements and shared with the auditors who validate CMS' financial position. The Maintenance of Effort forms as well as the MFP Budget Form are required each year. Submissions of MFP Demonstration Financial Forms are 90 days after the end of each Federal fiscal quarter. The MFP Finders File, MFP Program Participation Data file, and MFP Services File will be used by the national evaluation contractor to assess program outcomes. The MFP Quality of Life data will be used by the national evaluation contractor to assess program outcomes. Specifically, the evaluation will determine how participants' quality of life changes after transitioning to the community. The semi-annual progress reports will be used by the national evaluation contractor and CMS to monitor program implementation at the grantee level; Form Number: CMS-10249 (OCN: 0938-1053); Frequency: Yearly, Semi-annually, Quarterly, Once; Affected Public: State, Local, or Tribal Governments; Number of Respondents: 43; Total Annual Responses: 360; Total Annual Hours: 9,360. (For policy questions regarding this collection contact Marybeth Ribar at 410-786-1121. For all other issues call 410-786-1326.)

To obtain copies of the supporting statement and any related forms for the proposed paperwork collections referenced above, access CMS' Web Site address at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by December 20, 2011:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention Document Identifier/OMB Control Number: CMS-10249 (OCN: 0938-1053), Room C4-26-05, 7500 Security Boulevard, Baltimore, Maryland 21244-1850.

Dated: October 18, 2011.
Martique Jones,
Director, Regulations Development Group, Division B, Office of Strategic Operations and Regulatory Affairs.

[FR Doc. 2011-27301 Filed 10-20-11; 8:45 am]

BILLING CODE 4120-01-P